DEPARTMENT OF COMMERCE

National Oceanic and Atmospheric Administration

[I.D. 102901D]

Mid-Atlantic Fishery Management Council; Public Meeting

AGENCY: National Marine Fisheries Service (NMFS), National Oceanic and Atmospheric Administration (NOAA), Commerce.

ACTION: Notice of public meeting.

SUMMARY: The Mid-Atlantic Fishery Management Council’s Ecosystems Planning Committee will hold a public meeting.

DATES: The meeting will be held on Tuesday, November 20, 2001, from 10 a.m. until 5 p.m.

ADDRESSES: This meeting will be held at the Renaissance Philadelphia Hotel Airport, 500 Stevens Drive, Philadelphia, PA 19113; telephone: 610-521-5900.

Council address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION: This will be the first meeting of the Ecosystems Planning Committee (formerly three committees: the Ecosystems Management Committee, the Comprehensive Management Committee, and the Habitat Committee). The purpose of this meeting is to review the committee’s work plan for the coming year and initiate discussions on 2003 priorities for the Council’s Quota Set-aside Program.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Joanna Davis at the Mid-Atlantic Council Office (see ADDRESSES) at least 5 days prior to the meeting date.

Dated: October 31, 2001.
Richard W. Surdi,
Acting Director, Office of Sustainable Fisheries, National Marine Fisheries Service.

[FR Doc. 01-27847 Filed 11-5-01; 8:45 am]

BILLING CODE 3510-22-S